DEPARTMENT OF LABOR

Employment and Training Administration

[TA-W-83,034; TA-W-83,034A]

West Point Products Acquisition, a Subsidiary of Clover Technologies Group, LLC, Including On-Site Leased Workers From Kelly Services, Valley Grove, West Virginia; West Point Products Acquisition, a Subsidiary of Clover Technologies Group, LLC, Warehouse Division, Washington, Pennsylvania; Amended Certification Regarding Eligibility To Apply for Worker Adjustment Assistance

In accordance with Section 223 of the Trade Act of 1974, as amended (“Act”), 19 U.S.C. § 2273, the Department of Labor issued a Certification of Eligibility to Apply for Worker Adjustment Assistance on September 24, 2013, applicable to workers of West Point Products Acquisition, LLC, a subsidiary of Clover Technologies Group, LLC, including on-site leased workers from Kelly Services, Valley Grove, West Virginia. The Department's notice of determination was published in the Federal Register on November 6, 2014 (78 FR 26504).

In response to a petition (TA-W-85,198) filed on behalf of workers at West Point Products Acquisition, LLC, a subsidiary of Clover Technologies Group, LLC, Warehouse Division, Washington, Pennsylvania, the Department reviewed the certification for workers of the subject firm. The workers were engaged in the production of laser print cartridges used in commercial and desktop printers.

The company reports that worker separations at West Point Products Acquisition, LLC, a subsidiary of Clover Technologies Group, LLC, Washington, Pennsylvania are attributable to the same shift in production that contributed importantly to worker separations at the Valley Grove, West Virginia location.

Based on these findings, the Department is amending this certification to include workers located at West Point Products Acquisition, LLC, a subsidiary of Clover Technologies Group, LLC, Warehouse Division, Washington, Pennsylvania.

The amended notice applicable to TA-W-83,034 is hereby issued as follows:

All workers of West Point Products Acquisition, LLC, a subsidiary of Clover Technologies Group, LLC, including on-site leased workers from Kelly Services, Valley Grove, West Virginia (TA-W-83,034) and West Point Products Acquisition, LLC, a subsidiary of Clover Technologies Group, LLC, Warehouse Division, Washington, Pennsylvania (TA-W-83,244A), who became totally or partially separated from employment on or after August 28, 2012 through September 24, 2015, and all workers in the group threatened with total or partial separation from employment on the date of certification through two years from the date of certification, are eligible to apply for adjustment assistance under Chapter 2 of Title II of the Trade Act of 1974, as amended.

Signed in Washington, DC this 25th day of July 2014.
Del Min Amy Chen,
Certifying Officer, Office of Trade Adjustment Assistance.

[FR Doc. 2014-19510 Filed 8-15-14; 8:45 am]

BILLING CODE P